FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 25, 2017.

A. Federal Reserve Bank of Chicago (Colette A. Fried, Assistant Vice President) 230 South LaSalle Street, Chicago, Illinois 60690-1414:

1. Steven Bell individually and as Trustee Steven Bell Revocable Trust under Agreement, dtd 10/21/2009; Paula Bell Trustee Paula Bell Revocable Trust under Agreement dtd 10/21/2009; Elizabeth Killian Trustee Elizabeth Bell Killian Revocable Trust, dtd 08/03/2005; Rebecca Kettleson Trustee Rebecca Lynn Kettleson Revocable Trust, dtd 06/10/2005; Margaret Bell Trustee Margaret S. Bell Revocable Trust, dtd 05/25/2005; Steve Bell Trustee Paula Bell 2009 GRAT FBO Children, Paula Bell Second 2009 GRAT FBO Rebecca Kettleson, Paula Bell Second 2009 GRAT FBO Elizabeth Killian, and Paula Bell Second 2009 GRAT FBO Margaret Bell; Chad or Deborah Kane Trustees Chad and Deborah Kane Revocable Trust, dtd 01/22/2016; Steven Bell Trustee Paula Bell GRAT FBO Chad Kane; Steven Bell Trustee Paula Bell Second GRAT FBO Chad Kane; Catherine Bell Trustee Catherine Bell Revocable Trust, dtd 05/06/2010; James and Susan Mance Trustees Mance Family Revocable Trust; Linda Growney Trustee Linda Growney Revocable Trust dtd 06/09/2008; (Control Group); to retain voting shares of WoodTrust Financial Corporation, and thereby indirectly control WoodTrust Bank, both of Wisconsin Rapids, Wisconsin.

B. Federal Reserve Bank of St. Louis (David L. Hubbard, Senior Manager) P.O. Box 442, St. Louis, Missouri 63166-2034. Comments can also be sent electronically to Comments.applications@stls.frb.org:

1. T.H. Bradley, Jr., Magnolia, Arkansas, as trustee of the T.H. Bradley, Jr. Revocable Trust, Paula Bradley Smith, Magnolia, Arkansas, as trustee of the Paula Bradley Smith Revocable Trust, Thomas E. Smith, Magnolia, Arkansas, individually and as trustee of the Thomas E. Smith Revocable Trust, and Shannon Bradley Stuart, Magnolia, Arkansas; to collectively acquire additional voting shares of Magnolia Banking Corporation, Magnolia, Arkansas and thereby acquire Farmers Bank and Trust Company Maganola, Arkansas.

Board of Governors of the Federal Reserve System, January 4, 2017.
Yao-Chin Chao,
Assistant Secretary of the Board.

[FR Doc. 2017-00177 Filed 1-9-17; 8:45 am]

BILLING CODE 6210-01-P